DEPARTMENT OF JUSTICE

Office of Justice Programs

[OMB #1121-NEW]

Agency Information Collection Activities: Proposed collection; Comment Requested; New Collection: Census of Adult Probation Supervising Agencies, 2014

ACTION: 60-Day notice.

The Department of Justice (DOJ), Office of Justice Programs, will be submitting the following information collection to the Office of Management and Budget (OMB) for review and approval in accordance with the Paperwork Reduction Act of 1995. The proposed information collection is published to obtain comments from the public and affected agencies. Comments are encouraged and will be accepted for “sixty days” until April 11, 2014. This process is conducted in accordance with 5 CFR 1320.10.

If you have comments especially regarding the estimated public burden and associated response time, or need a copy of the proposed information collection instrument with instructions or additional information, please contact Lauren Glaze, Statistician, Bureau of Justice Statistics, 810 7th St., NW., Washington, DC 20531 (email Lauren.Glaze@usdoj.gov; phone (202) 305-9628).

Written comments and suggestions from the public and affected agencies concerning the proposed collection of information are encouraged. Your comments should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility and clarity of the information to be collected; and

(4) Minimize the burden of the collection of information on those who are to respond, including through the use of appropriate automated, electronic, mechanical, or other technological collection techniques or other forms of information technology, e.g. permitting electronic submission of responses.

Overview of this information collection

(1) Type of Information Collection: New Collection. While the Bureau of Justice Statistics conducted a census of probation and parole agencies in 1991, the 2014 Census of Adult Probation Supervising Agencies is now a standalone collection. This collection's scope is narrower and only includes adult probation agencies. The scope of the 1991 census was broader and included both adult probation and parole agencies.

(2) Title of the Form/Collection: 2014 Census of Adult Probation Supervising Agencies.

(3) Agency form number, if any, and the applicable component of the Department of Justice sponsoring the collection:

(a) Form number: CAPSA-AIF is the Agency Information Form (AIF) for public agencies, CAPSA-CIF is the Company Information Form (CIF) for private probation companies, CAPSA-1A is the questionnaire for public probation agencies, and CAPSA-1B is the questionnaire for private probation companies. Corrections Statistics Program, Bureau of Justice Statistics, Office of Justice Programs, U.S. Department of Justice.

(4) Affected public who will be asked to respond, as well as a brief abstract: Primary: State or local government. Other: Federal government or private companies. The primary goals of the work under this clearance are to: 1) enhance and validate a national roster of probation agencies that supervise adults on probation for a felony (or those that supervise felons and misdemeanants) and private companies that directly supervise adult probationers; and 2) collect information from those agencies to report national and state-level statistics that provide a clear understanding of how adult probation in the United States is currently organized, the supervision policies and practices agencies have established to administer adult probation, the various types of functions adult probation agencies perform, and the different types of individuals supervised by adult probation agencies. The Bureau of Justice Statistics will use this information in published reports and for the U.S. Congress, Executive Office of the President, practitioners, researchers, students, the media, and others interested in community corrections statistics.

All agencies and companies that are believed to supervise adult probationers are on a preliminary roster that BJS and Westat, the data collection agent for the CAPSA, developed by reviewing and compiling data and information from various available resources. The CAPSA-AIF or CAPSA-CIF will be mailed to the head of each agency/company on the preliminary roster and the head of the agency/company will be asked to confirm the contact information for the agency/company and designate a respondent(s) to complete the CAPSA questionnaire. Agency/company heads will be asked to fax, email, or mail the AIF or CIF to Westat. Designated respondents from public probation agencies will receive the CAPSA-1A questionnaire and will be asked to report via the Internet through a web survey with telephone reporting as a secondary mode. Designated respondents from private probation companies will receive the CAPSA-1B questionnaire and will be asked to return the paper questionnaire by fax, email, or mail. Telephone will also serve as a secondary mode of data collection for private probation companies.

The CAPSA-1A will collect information from public probation agencies about their branch and level of government, the various functions they perform, the policies and practices they have in place to administer adult probation related to both adult probationers and the community corrections officers that supervise them, the extent to which agencies have supervision authority, the various populations they serve, the size of their adult probation population, and funding sources for adult probation. In an effort to validate the roster of probation agencies and companies, respondents will also be asked to review a list of public probation agencies in their state to identify any that may be missing from the list. They will also be asked to report any private probation companies that supervise adult probationers in their state.

The CAPSA-1B will collect information from private probation companies about the various functions they perform, the number of states for which they supervise adult probationers, the branches and levels of government from which they receive adult probationers to supervise, the extent to which any governmental entity conducts oversight of their supervision activities, the various populations they serve, the size of their adult probation population, and the practices and methods they use to administer adult probation.

Both the CAPSA-1A and CAPSA-1B questionnaires will include questions to confirm that the agencies/companies supervise adult probationers and are therefore correctly included on the roster and fall within the scope of the CAPSA.

In addition, because the organization of adult probation varies drastically not only by state but within particular states, as part of the work under this clearance to enhance and validate the roster of adult probation agencies and companies, one informant in each state, the District of Columbia, and the Federal system will be asked to complete a telephone interview. These contacts are necessary to assist in: (1) identifying any agencies that may be missing or should be removed from the roster (e.g., agencies that are no longer in operation); (2) updating information contained in the resources that have been used to develop the preliminary roster since some of the source material was only available from publications that were published 5 to 10 years ago; and (3) resolving questions about how probation is organized in the jurisdiction that stem from differences in the way probation in particular jurisdictions has been described in some of the materials used to develop the preliminary roster.

(5) An estimate of the total number of respondents and the amount of time needed for an average respondent to respond:

(a) CAPSA-AIF form: Approximately 2000 respondents, each taking an average 5 minutes to respond.

(b) CAPSA-CIF form: Approximately 200 respondents, each taking an average of 5 minutes to respond.

(c) CAPSA-1A form: Approximately 2,000 respondents, each taking an average of 65 minutes to respond.

(d) CAPSA-1B form: Approximately 200 respondents, each taking an average of 31 minutes to respond.

(e) 52 telephone calls to informants in each jurisdiction, each taking an average of 30 minutes to respond.

(6) An estimate of the total public burden (in hours) associated with the collection: 2,480 annual burden hours.

If additional information is required contact: Jerri Murray, Department Clearance Officer, United States Department of Justice, Justice Management Division, Policy and Planning Staff, Two Constitution Avenue, 145 N Street NE., Room 3W-1407B, Washington, DC 20530..

Dated: February 5, 2014.
Jerri Murray,
Department Clearance Officer for PRA, U.S. Department of Justice.

[FR Doc. 2014-02767 Filed 2-7-14; 8:45 am]

BILLING CODE 4410-18-P